DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are:

The plat representing the dependent resurvey of a portion of the subdivisional lines and the subdivision of sections 4, 9, 10, 11, and 12 in T. 11 N., R. 16 E., Boise Meridian, Idaho, Group Number 1264, was accepted April 28, 2009.

The field notes representing the perpetuation of Angle Point Number 1, in section 27 in T. 9 S., R. 20 E., Boise Meridian, Idaho, Group Number 1000, were accepted May 7, 2009.

The plat representing the dependent resurvey of portions of the south boundary, subdivisional lines, and subdivision of section lines, and the subdivision of sections 26, 29, 32, 33, and 34, and the metes-and-bounds survey of lot 2 in section 20, T. 7 S., R. 35 E., Boise Meridian, Idaho, Group Number 1148, was accepted May 7, 2009.

The supplemental plat of section 20, lots 1 and 2, T. 7 S., R. 35 E., Boise Meridian, Idaho, was prepared to amend certain erroneous acreages as depicted on the plat accepted May 7, 2009.

The plat representing the dependent resurvey of a portion of the south boundary and a portion of the subdivisional lines, and subdivision of sections 27 and 34, T. 14 S., R. 22 E., Boise Meridian, Idaho, Group Number 1276, was accepted June 25, 2009.

Dated: July 2, 2009.
Stanley G. French,
Chief Cadastral Surveyor for Idaho.

[FR Doc. E9-16149 Filed 7-7-09; 8:45 am]

BILLING CODE 4310-GG-P